DEPARTMENT OF THE INTERIOR

National Park Service

National Register of Historic Places; Notification of Pending Nominations and Related Actions

Nominations for the following properties being considered for listing or related actions in the National Register were received by the National Park Service before June 11, 2005. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington, DC 20005; or by fax, (202) 371-6447. Written or faxed comments should be submitted by July 22, 2005.

John W. Roberts,
Acting Chief, National Register/National Historic Landmarks Program.

IDAHO

Latah County

Moscow Downtown Historic District, Generally bounded by 1st St., 6th St., Washington St., and the alley bet. Main and Jackson, Moscow, 05000710

MICHIGAN

Marquette County

Vista Theater, 218 Iron St., Megaunee, 05000714

Oakland County

Indian Lake Road Stone Arch Bridge, Indian Lake Rd., E of M24, Orion, 05000712

Sanilac County

Roach, W.R., Cannery Warehouse and Office Building, 89 E. Sanborn, Croswell, 05000717

Washtenaw County

Sutherland, Langford and Lydia McMichael, Farmstead, 797 Textile Rd., Pittsfield Charter Township, 05000711

Wayne County

Alger Theater, 16451 E. Warren Ave., Detroit, 05000719

Detroit—Leland Hotel, 400 Bagley Ave., Detroit, 05000718

General Motors Research Laboratory, 485-495 Milwaukee, Detroit, 05000713

Mellus Newspapers Building, 1661 Fort St., Lincoln Park, 05000716

Woodhouse, John T., House, 33 Old Brook Ln., Grosse Pointe Farms, 05000715

MONTANA

Broadwater County

Toston Bridge, Spanning the Missouri R, on abandoned segment of old U.S. 287, at Toston, Toston, 05000720

NEBRASKA

Adams County

Hastings Municipal Airport Hangar—Building No. 1, 3100 E. Twelfth St., Hastings, 05000722

Douglas County

Dundee—Happy Hollow Historic District, Roughly Hamilton on N. JE George and Happy Hollow on W. Leavemworth on S, 48th on E, Omaha, 05000726

Logan, The, 1804 Dodge, Omaha, 05000721

Fillmore County

Ohiowa Public School, (School Buildings in Nebraska MPS) 202 S. Main St., Ohiowa, 05000725

Howard County

Columbia Hall, Jct. of NE 58 and W. Roger Wetsch Ave., Dannebrog, 05000724

Otoe County

Harmony School, School District #53, (School Buildings in Nebraska MPS) Address Restricted, Nebraska City, 05000723

TENNESSEE

Knox County

Candoro Marble Company Showroom and Garage, 681 Maryville Pike, Knoxville, 05000709

Warren County

Martin—Miller Farm, (Historic Family Farms in Middle Tennessee MPS) 1597 Old Rock Island Rd., Rowland Station, 05000727

A Request for removal has been made for the following resource:

Iowa

Scott County

Heinz, Bonaventura, House (First), (Davenport MRA), 1128 W. 5th St., Davenport, 84001435

[FR Doc. 05-13308 Filed 7-6-05; 8:45 am]

BILLING CODE 4312-51-P